DEPARTMENT OF COMMERCE

National Oceanic and Atmospheric Administration

[RTID 0648-XB474]

Gulf of Mexico Fishery Management Council; Public Meeting

AGENCY: National Marine Fisheries Service (NMFS), National Oceanic and Atmospheric Administration (NOAA), Commerce.

ACTION: Notice of a public focus group meeting.

SUMMARY: The Gulf of Mexico Fishery Management Council will hold a one-day meeting via webinar of its Focus Group on Shrimp Data Collection Framework Action.

DATES: The webinar will convene on Thursday, October 21, 2021, 9 a.m. until 5 p.m., EDT, (8 a.m.-4 p.m. CDT). For agenda details, see SUPPLEMENTARY INFORMATION.

ADDRESSES: The meeting will be held via webinar. Please visit the Gulf Council website www.gulfcouncil.org for meeting materials and webinar registration information.

Council address: Gulf of Mexico Fishery Management Council, 4107 W Spruce Street, Suite 200, Tampa, FL 33607; telephone: (813) 348-1630.

FOR FURTHER INFORMATION CONTACT: Dr. Matt Freeman, Economist, Gulf of Mexico Fishery Management Council; matt.freeman@gulfcouncil.org, telephone: (813) 348-1630.

SUPPLEMENTARY INFORMATION: The following items are on the agenda, though agenda items may be addressed out of order (changes will be noted on the Council's website when possible.)

Thursday, October 21, 2021; 9 a.m.-5 p.m. EDT (8 a.m.-4 p.m. CDT)

Meeting will begin with a review of the charge and objectives. The focus group will receive an overview of current cELB units' programming and implementation, followed by a presentation on elements of data from current cELB units and background information from Gulf States Marine Fisheries Commission's (GSMFC) process for data receival, security, and storage. The focus group will then hold a discussion for Objectives 2 through 4.

Following the lunch break, the focus group will review a comparison table, background information from Vessel Monitoring System (VMS) tech specs, and proposed tech specs. The focus group will then hold a discussion for Objective 5, followed by a presentation on a case study of Gulf Reef Fish VMS data inputted into the Gulf Shrimp effort algorithm for illustration of compatibility.

The focus group will discuss Objective 6 with background information on Framework Action: Modification of the Vessel Position Data Collection Program for the Gulf of Mexico Shrimp Fishery.

The focus group will receive public comment and then summarize its advice and proposed next steps for the Council.

-Meeting Adjourns

The meeting will be broadcast via webinar. You may register by visiting www.gulfcouncil.org and clicking on the Focus Group meeting on the calendar.

The Agenda is subject to change, and the latest version along with other meeting materials will be posted on www.gulfcouncil.org as they become available.

Although other non-emergency issues not on the agenda may come before the group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take-action to address the emergency at least 5 working days prior to the meeting.

Authority: 16 U.S.C. 1801 et seq.

Dated: September 30, 2021.
Tracey L. Thompson,
Acting Deputy Director, Office of Sustainable Fisheries, National Marine Fisheries Service.

[FR Doc. 2021-21737 Filed 10-5-21; 8:45 am]

BILLING CODE 3510-22-P